DEPARTMENT OF HEALTH AND HUMAN SERVICES

Administration for Children and Families

Proposed Information Collection Activity; Comment Request

Title: School Readiness Goals and Head Start Program Functioning.

OMB No.: New Collection.

Description: The Administration for Children and Families (ACF), U.S. Department of Health and Human Services (HHS) is proposing a data collection as part of the “School Readiness Goals and Head Start Program Functioning” research project. The purpose of this study is to improve understanding of how local Head Start and Early Head Start programs define, measure, and communicate school readiness goals, and how they use these goals in program planning to improve program functioning. ACF is proposing to use a semi-structured telephone interview protocol to collect information from program directors and other key staff from approximately 60 local grantees and site visit protocols to collect further qualitative information through interviews and/or focus groups with program staff, oversight boards, key stakeholders, and parents in a subset of 12 of these grantees. ACF has contracted with the Urban Institute to collect and analyze the data gathered in the telephone interviews and site visits.

Topics to be covered in the telephone interview and site visit protocols include: A description of school readiness goals set by local grantee; the process used to set school readiness goals; contextual factors informing choices made about school readiness goals (e.g., needs of local children and families, program and staff characteristics, and community characteristics); how programs use and analyze data about school readiness goals; how programs report progress on goals; and how school readiness goals and data form program planning and improvement efforts.

Respondents: Head Start and Early Head Start program directors and managers closely involved with school readiness goal setting (e.g. education services coordinators); others in leadership positions (e.g. agency directors, center directors, home-based services coordinators or assistant program directors); front-line staff (e.g. Head Start teachers, Early Head Start teachers, home visitors, family service workers, and program specialists); members of Head Start governing bodies and local policy councils; liaisons from local education agencies; and parents with children in Head Start and Early Head Start programs.

Annual Burden Estimates
Instrument | Total number of respondents | Number of responses per respondent | Average burden hours per response | Total burden hours | Annual burden hours
Telephone Interview | 120 | 1 | 0.75 | 90 | 90
Key Leaders Interview | 24 | 1 | 1.5 | 36 | 36
Other Leaders Interview | 30 | 1 | 1 | 30 | 30
Front-line Staff Interview | 96 | 1 | 1 | 96 | 96
Governing Body/Policy Council Interview | 72 | 1 | 1 | 72 | 72
Local Education Agency Interview | 12 | 1 | 1 | 12 | 12
Parent Focus Group | 144 | 1 | 1.5 | 216 | 216

Estimated Total Annual Burden Hours: 552.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance, Officer.

[FR Doc. 2013-00593 Filed 1-15-13; 8:45 am]

BILLING CODE 4184-22-M